DEPARTMENT OF COMMERCE

National Oceanic and Atmospheric Administration

[RTID 0648-XF023]

Gulf Fishery Management Council; Public Meetings

AGENCY: National Marine Fisheries Service (NMFS), National Oceanic and Atmospheric Administration (NOAA), Commerce.

ACTION: Notice; virtual webinars.

SUMMARY: The Gulf Fishery Management Council (Gulf Council) will hold 4 virtual webinars of the Reef Fish, Coastal Migratory Pelagics, Red Drum, Shrimp, Spiny Lobster and Ad Hoc Individual Fishing Quota Advisory Panels to advise on Executive Order 14276 “Restoring American Seafood Competitiveness” and Executive Order 14192 “Unleashing Prosperity through Deregulation”; and, one Public Engagement webinar.

DATES: The virtual AP webinars will take place Monday, July 21 through Wednesday, July 23, 2025, at 9 a.m. and 1 p.m. Please review SUPPLEMENTARY INFORMATION below for dates and times for each Advisory Panel Committee and one Public Engagement webinar.

ADDRESSES: Please visit the Gulf Council website at www.gulfcouncil.org for meeting materials and webinar registration information.

Meeting addresses: The meetings will be held virtually. For specific dates and times, see SUPPLEMENTARY INFORMATION.

Council address: Gulf Fishery Management Council, 4107 W Spruce Street, Suite 200, Tampa, FL 33607; telephone: (813) 348-1630.

FOR FURTHER INFORMATION CONTACT: Dr. Assane Diagne, Economist; assane.diagne@gulfcouncil.org, Gulf Fishery Management Council; telephone: (813) 348-1630.

SUPPLEMENTARY INFORMATION: The webinars will begin with introductions and adoption of agenda. National Marine Fisheries Service (NMFS) and Council Staff will review the directions received for Executive Order 14276 “Restoring American Seafood Competitiveness” and Executive Order 14192 “Unleashing Prosperity through Deregulation”, hold discussions, offer recommendations, prioritization and rationale of AP Recommendations.

Schedule as follows:

Monday, July 21, 2025

CMP/Red Drum APs at 9 a.m. EDT.

Reef Fish AP at 1 p.m. EDT.

Tuesday, July 22, 2025

Shrimp/Spiny Lobster APs at 9 a.m. EDT.

Public Engagement Session at 6 p.m. EDT.

Wednesday, July 23, 2025

Ad Hoc Individual Fishing Quota AP at 9 a.m. EDT.

Visit www.gulfcouncil.org website and click on the “meetings” tab for registration information. After registering, you will receive a confirmation email containing information about joining the webinar.

(Authority: 16 U.S.C. 1801 et seq.)

Dated: July 1, 2025.
Rey Israel Marquez,
Acting Deputy Director, Office of Sustainable Fisheries, National Marine Fisheries Service.

[FR Doc. 2025-12475 Filed 7-2-25; 8:45 am]

BILLING CODE 3510-22-P